ARCHITECT OF THE CAPITOL

Notice of Proposed Small Business Set-Aside Program

AGENCY: Architect of the Capitol.

SUMMARY: The Architect of the Capitol invites comments on the proposed small business set-aside program for use with small purchases awarded by the Architect of the Capitol.

DATES: Interested persons are invited to submit comments on or before November 5, 2008.

FOR FURTHER INFORMATION CONTACT: Lisa Russell (Procurement Division), 202-226-1407, e-mail: smallbusiness@aoc.gov.

Authority: 2 U.S.C. 1821 and 41 U.S.C. 5, 41 U.S.C. 6a-1.

SUPPLEMENTARY INFORMATION: The AOC is interested in adopting a small business set-aside program that includes many of the procedural principles contained in the Small Business Act and as implemented in 13 CFR Part 121, 13 CFR Part 124, 13 CFR Part 125, 13 CFR Part 126, and 13 CFR Part 134. This program is proposed for use in conjunction with the AOC's existing procurement authority for small purchases.

The AOC is not subject to the Administrative Procedure Act, however, the AOC Procurement Division seeks to solicit public comment on the new proposed program.

The AOC's threshold for small purchases is $100,000. The AOC is considering whether to limit each acquisition of supplies or services that has an anticipated dollar value greater than $5,000 but not exceeding $100,000 to small business concerns. Purchases less than $100,000 is one of the exceptions to the AOC's full and open competition requirement as noted under its procurement statute 41 U.S.C. 5 and as revised by 41 U.S.C. 6a-1 and 2 U.S.C. 1821. The AOC's policy for purchases of $5,000 and less is to treat them in the same manner as micro-purchases in accordance with FAR Part 13.2. We believe this contemplated policy to limit each acquisition of supplies or services that has an anticipated dollar value greater than $5,000 but not exceeding $100,000 to small business concerns is also consistent with the policies and procedures of FAR Part 13, and this policy may adopt or incorporate those FAR Part 13 policies and procedures as appropriate. We also will apply this policy only when there is reasonable expectation that offers will be received from a least two responsible small business concerns.

Adoption of any existing procedure should not infer application of the Small Business Act, Administrative Procedure Act, nor any of its implementing regulations upon the AOC. The draft policies are available on http://www.aoc.gov/osdbu.cfm. Comments on the policies should be directed to Lisa Russell at facsimile 202-225-3221 or e-mail smallbusiness@aoc.gov.

Stephen T. Ayers,
Acting Architect of the Capitol.

[FR Doc. E8-23496 Filed 10-3-08; 8:45 am]

BILLING CODE 1182-00-M